DEPARTMENT OF EDUCATION

Applications for New Awards; Full-Service Community Schools Program

AGENCY: Office of Elementary and Secondary Education, Department of Education.

ACTION: Notice.

SUMMARY: The Department of Education (Department) is issuing a notice inviting applications for fiscal year (FY) 2023 for the Full-Service Community Schools (FSCS) program, Assistance Listing Number 84.215J. This notice relates to the approved information collection under OMB control number 1894-0006.

DATES:

Applications Available: June 7, 2023.

Deadline for Notice of Intent to Apply: July 7, 2023.

Date of Pre-Application Meetings: The Department will hold pre-application meetings via webinars for prospective applicants. Detailed information regarding these webinars will be provided on the FSCS website at https://oese.ed.gov/offices/office-of-discretionary-grants-support-services/school-choice-improvement-programs/full-service-community-schools-program-fscs/fy-2023-fscs-grant-competition/.

Deadline for Transmittal of Applications: August 8, 2023.

Deadline for Intergovernmental Review: October 8, 2023.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Jane Hodgdon, U.S. Department of Education, 400 Maryland Avenue SW, Room 4E246, Washington, DC 20202. Telephone: 202-245-6057. Email: FSCS@ed.gov.

If you are deaf, hard of hearing, or have a speech disability and wish to access telecommunications relay services, please dial 7-1-1.

SUPPLEMENTARY INFORMATION:

Full Text of Announcement

I. Funding Opportunity Description

Purpose of Program: The FSCS program is authorized by sections 4621-4623 and 4625 of the Elementary and Secondary Education Act of 1965, as amended (ESEA). This program provides support for the planning, implementation, and operation of full-service community schools that improve the coordination, integration, accessibility, and effectiveness of services for children and families, particularly for children attending high-poverty schools, including high-poverty rural schools.

Background: Meeting the needs of the whole child is essential to helping America's students grow academically and improve their well-being. The Biden-Harris Administration's commitment to increasing and supporting the adoption of community school models across the country has resulted in an increase in funding from $25 million in 2020 to $150 million in FY 2023, from 42 grantees in 2020 to 129 grantees in 2023, which includes 42 grants made to local educational agencies (LEAs) (as defined in this notice), nonprofit (as defined in this notice) organizations, institutions of higher education, and government organizations in FY 2022. To further demonstrate its commitment to community schools, the White House worked with nine Federal agencies to identify how funding across the Federal government can be used to support community schools. These efforts resulted in the publication of a Fact Sheet ¹ and Toolkit ² designed to assist community school leaders, coordinators, advocates, and other stakeholders to understand the current scope of Federal funding that can be used to support community schools.

¹ Fact Sheet: Biden-Harris Administration Announces Efforts to Support Community Schools. Available at: www.whitehouse.gov/briefing-room/statements-releases/2023/01/18/fact-sheet-biden-harris-administration-announces-efforts-to-support-community-schools/.

² White House Toolkit: Federal Resources to Support Community Schools. Available at: www.whitehouse.gov/wp-content/uploads/2023/01/2023-01-13-WHITE-HOUSE-TOOLKIT_Federal-Resources-to-Support-Community-Schools.pdf.

Full-service community schools (as defined in this notice) meet the unique needs of the neighborhoods they serve by leveraging local nonprofit, private sector, and public partnerships to bring wraparound services into school buildings, such as mental health supports, dental services, and assistance with shelter and nutrition. They operate with the assistance of school staff who coordinate with school administrators, stakeholders, and local organizations to deliver these services and more to students, their families, and members of the community. Research ³ has shown that comprehensive community school interventions have increased student attendance, on-time grade progression, and high school graduation rates.

³ Maier, A., Daniel, J., Oakes, J., & Lam, L. (December 2017). Community Schools as an Effective School Improvement Strategy: A Review of the Evidence. Learning Policy Institute.

The growing interest at the State and local levels in community schools,⁴ known as full-service community schools, coincides with a moment in which schools are urgently focused on supporting students' holistic needs as they help them recover from the COVID-19 pandemic and the Nation is grappling with violence in and around schools. In his January 2023 speech, Secretary Miguel Cardona encouraged all stakeholders to raise the bar in education. “Raise the Bar: Lead the World” ⁵ is the Department's call to action to transform preschool through grade 12 education and unite around evidence-based (as defined in this notice) strategies that advance educational equity and excellence for all students. Raising the bar in education focuses on building the skills that all students need to thrive inside and outside of school, and supporting students to excel in the classroom, in their careers, and in their enriched lives and communities, making a positive difference in the world, for generations to come.

⁴ Maier, A., Daniel, J., Oakes, J., & Lam, L. (December 2017). Community Schools as an Effective School Improvement Strategy: A Review of the Evidence. Learning Policy Institute.

⁵ Raise the Bar, U.S. Department of Education Call to Action. Available at: www.ed.gov/raisethebar/.

In addition to the funding made available under FSCS, the ESEA offers flexibilities at the State and local levels to implement strategies supported by community schools, such as coordination of school and community resources (ESEA sections 1114(b)(5) and 1115(b)(2)) and after-school programming and support for a community school coordinator (ESEA section 4108(5)(H)). If a State educational agency (SEA) (as defined in this notice) or LEA lacks the resources to implement community schools at scale, it can productively begin in neighborhoods where community schools are most needed and, therefore, students are most likely to benefit.⁶ In addition to a community school approach being an allowable use of funding under title I of ESEA as an evidence-based approach to school improvement, full-service community schools have been well-positioned to respond to the COVID-19 pandemic and its impact on student's academic needs and well-being, including by working closely with partner organizations to address community needs such as summer programming, food and nutrition programs, tutoring, mentoring, mental and physical health services, COVID-19 vaccine access, family engagement strategies, and opportunities to accelerate learning both inside and outside the classroom. Accordingly, community schools are an allowable use of American Rescue Plan Act funds. In addition, through the FSCS program, the Department provides catalytic support for the planning and capacity building, development, implementation, operation, and coordination of effective services for children and families, particularly in urban and rural areas with high rates of poverty.

⁶ Horn, M.B., Freeland, J., Butler, S.M., & Brookings Institution. (2015). Schools as Community Hubs: Integrating Support Services to Drive Educational Outcomes. A Series of Discussion Papers on Building Healthy Neighborhoods. No. 3. In Brookings Institution. Brookings Institution.

Research ⁷ shows that community schools that include certain design features show improvements in teaching, learning, and student outcomes. The evidence-based features, or pillars, include providing (1) integrated supports (e.g., social and emotional learning, access to health and nutrition services); (2) expanded and enriched learning time (e.g., after-school enrichment and summer school); (3) active family and community engagement; and (4) collaborative leadership and practices to support high-quality teaching. Full-service community schools should create and implement these evidence-based strategies as part of a comprehensive set of services that are designed to reflect and be tailored to local contexts. These four pillars are supported by the Science of Learning and Development Alliance ⁸ and can be used to address the needs of the whole child, including those children and youth whom schools and community partners determine to be most underserved. Continued inclusion of the four pillars in this year's FSCS competition allows applicants to develop projects with greater fidelity to evidence-based practices ⁹ that have been shown to be associated with improvements in teaching, learning, and student outcomes, and prepares the FSCS program and its grantees for future national evaluation efforts. For example, in a January 2020 study of New York City community schools, assuming strong social capital, stable leadership, and a strong instructional program, community schools have been associated with improved attendance, on-time grade progression, student achievement in math, and fewer disciplinary incidents.¹⁰

⁷ Maier, A., Daniel, J., Oakes, J., & Lam, I. (2017). Community Schools as an Effective School Improvement Strategy: A Review of the Evidence. Palo Alto, CA: Learning Policy Institute.

⁸ Science of Learning and Development Alliance. (2020). Science of Learning and Development: Initial Findings. https://soldalliance.org/wp-content/uploads/2021/12/SoLD-Science-Translation_May-2020_FNL.pdf.

⁹ Learning Policy Institute & Turnaround for Children. (2021). Design principles for schools: Putting the science of learning and development into action.

¹⁰ Johnston, W., Engberg, J., Opper, I., Sontag-Padilla, L., and Xenakis, L. (2020). Illustrating the Promise of Community Schools: An Assessment of the Impact of the New York City Community Schools Initiative. City of New York, www.rand.org/pubs/research_reports/RR3245.html.

Building upon the work and progress of the field, as well as the lessons learned from reviews and evaluations of community school strategies and implementation, the Department published a notice of final priority and requirements for the FSCS program elsewhere in this issue of the Federal Register (2023 FSCS NFP). The final requirements are included in this notice and require that grantees under this competition commit to and participate in a national evaluation assessing the implementation of the FSCS program.

In this FSCS competition, through two competitive preference priorities, the Department seeks applications that consider how classroom practices and school designs that are focused on the whole learner can be incorporated into community school supports and strategies. Recognizing the impact of school and community safety on learning, the Department is also interested in projects that propose to coordinate across multiple agencies and organizations to address community violence prevention and intervention. Through an invitational priority, the Department encourages projects that support effective transition practices, continuity of services and supports, and aligned instruction for students as they transition from preschool and other early childhood settings into kindergarten and from kindergarten into the early grades. Under the ESEA, FSCS grantees must provide pipeline services (as defined in this notice), which includes access to high-quality early childhood education programs. While FSCS grantees are also required to support a child's transition between elementary, middle, and high schools, they are not required to support effective transitions between early childhood education and elementary school settings, which research suggests is a critical point for addressing the achievement gap before it is further entrenched.¹¹ Furthermore, instructional alignment from prekindergarten to first grade is associated with a sustained benefit for a student's language, literacy, and math skills through first grade.¹² To facilitate a smooth transition to kindergarten and support educational continuity across the preschool to third grade continuum, we include the invitational priority.

¹¹ McCormick, M., MacDowell, C., Weiland, C., Hsueh, J., Maier, M., Pralica, M., Maves, S., Snow, C. & Sachs, J. (2023). Instructional Alignment is Associated with Sustained Benefits of PreK. (EdWorkingPaper: 23-776). Retrieved from Annenberg Institute at Brown University: https://doi.org/10.26300/8s3g-tz1.

¹² Ibid.

Priorities: This notice contains five absolute priorities, two competitive preference priorities, and one invitational priority. In accordance with 34 CFR 75.105(b)(2)(iv), Absolute Priority 1 is from section 4625(b)(1)(A) of the ESEA, and Absolute Priority 2 is from section 4625(b)(1)(A) and (B) of the ESEA. Absolute Priorities 3, 4, and 5 are from the notice of final priorities, requirements, definitions, and selection criteria for this program published in the Federal Register on July 13, 2022 (87 FR 41675) (2022 FSCS NFP). Competitive Preference Priorities 1 and 2 are from the Secretary's Supplemental Priorities and Definitions for Discretionary Grants Programs published in the Federal Register on December 10, 2021 (86 FR 70612) (Supplemental Priorities).

Absolute Priorities: For FY 2023 and any subsequent year in which we make awards from the list of unfunded applications from this competition, these priorities are absolute priorities. Under 34 CFR 75.105(c)(3) we consider only applications that meet Absolute Priority 1 or Absolute Priority 2 and one additional absolute priority (Absolute Priority 3, Absolute Priority 4, or Absolute Priority 5).

Absolute Priorities 3, 4, and 5 constitute their own funding categories under Absolute Priority 1 and under Absolute Priority 2. Consequently, there will be separate funding slates for each of the following categories of applications:

• Absolute Priorities 1 and 3;

• Absolute Priorities 1 and 4;

• Absolute Priorities 1 and 5;

• Absolute Priorities 2 and 3;

• Absolute Priorities 2 and 4; and

• Absolute Priorities 2 and 5.

The Secretary intends to award grants under each of these funding categories, provided that applications of sufficient quality are submitted. To ensure that applicants are considered for the correct type of grant, applicants must clearly identify the specific absolute priorities that the proposed project addresses in the one-page abstract. If an entity is interested in proposing separate projects (e.g., one that addresses Absolute Priorities 1 and 3 and another that addresses Absolute Priorities 1 and 4), separate applications must be submitted.

These priorities are:

Absolute Priority 1—Title IA Schoolwide Program Eligibility.

To meet this priority, applicants must propose to serve a minimum of two or more full-service community schools eligible for a schoolwide program (as defined in this notice) under section 1114(b) of the ESEA, as part of a community- or district-wide strategy.

Absolute Priority 2—Title IA Schoolwide Program Eligibility and Rural Districts—Small and Rural or Rural and Low-Income.

To meet this priority, applicants must propose to: (1) serve a minimum of two or more full-service community schools eligible for a schoolwide program under section 1114(b) of the ESEA, as part of a community- or district-wide strategy; and (2) include an LEA that satisfies the requirements of the Small Rural School Achievement program (ESEA section 5211(b)(1)(A), (B), or (C)) or the Rural and Low-Income School program (ESEA section 5221(b)(1)(A), (B), or (C)).

Note: Applicants may determine whether a particular LEA is eligible for these programs by referring to information on the following Department website: https://oese.ed.gov/offices/office-of-formula-grants/rural-insular-native-achievement-programs/rural-education-achievement-program/.

Note: An LEA includes a public charter school that operates as an LEA.

Absolute Priority 3—Capacity Building and Development Grants.

To meet this priority, applicants must propose projects to (a) conduct initial development and coordination activities, including extensive community engagement, that leverage the findings of their needs assessment—which may be completed during or before the grant period—to develop the infrastructure, activities, and partnerships to implement full-service community schools in two or more schools, and (b) gather data on performance indicators.

Absolute Priority 4—Multi-Local Educational Agency Grants.

To meet this priority, applicants must propose projects to implement and sustain full-service community schools in two or more LEAs. As outlined in section 4622(1)(B) of the ESEA, an eligible entity for any FSCS grant is a consortium of one or more LEAs or the Bureau of Indian Education (BIE) and one or more community-based organizations, nonprofit organizations, or other public or private entities. The project must, with the exception of LEAs that oversee a single school, coordinate and provide services at two or more full-service community schools in each LEA.

Absolute Priority 5—FSCS State Scaling Grants.¹³

¹³ Unitary systems, such as the District of Columbia, Hawaii, and Puerto Rico, may apply under Absolute Priority 5 FSCS State Scaling Grants.

Applications submitted under Priority 5 must include a written commitment of the SEA to participate in the partnership and to sustain the program beyond 2 years after the term of the grant, which can be submitted in the required preliminary memorandum of understanding (MOU) that includes the roles and responsibilities of the SEA and other partners identified at the time of the application. The applicant, in partnership with the SEA, determines the number and percentage of State LEAs, and the number and percentage of schools across those LEAs, that will develop, support, and expand full-service community schools over the 5-year grant performance period.

Applications under Priority 5 must also identify or establish a State steering committee (which may be a previously existing body) that represents relevant community schools' stakeholders, including educators and other school staff, community school initiative leaders, education union or association designees, family leaders participating in community school programs, community partners such as service providers, early childhood education providers such as Head Start, and community school coordinators from schools already implementing full-service community schools in the State. In addition to serving as an advisory committee, the steering committee also has the authority to make decisions about the design, implementation, and evaluation for the grant, which may include identification or selection of LEAs that will partner in the development and implementation of two or more community schools in each LEA, with the exception of LEAs that oversee a single school. The roles and responsibilities of the steering committee must be included in the required preliminary MOU.

As outlined in section 4622(1)(B) of the ESEA, an eligible entity for any FSCS grant is a consortium of one or more LEAs or the BIE and one or more community-based organizations, nonprofit organizations, or other public or private entities.

Competitive Preference Priorities: For FY 2023 and any subsequent year in which we make awards from the list of unfunded applications from this competition, these priorities are competitive preference priorities. Under 34 CFR 75.105(c)(2)(i), we award up to an additional 10 points to an application, depending on how well the application meets one or both of these priorities; the total possible points for each competitive preference priority are noted in parentheses. Applicants may apply under one, both, or none of the competitive preference priorities. If an applicant chooses to address one or both of the competitive preference priorities, the applicant must identify in the one-page abstract the competitive preference priorities they are addressing in order to receive those points. The applicant must respond to the competitive preference priorities it chooses to address in the application narrative section of its application.

These priorities are:

Competitive Preference Priority 1—Meeting Student Social, Emotional, and Academic Needs. (up to 5 points)

Projects that are designed to improve students' social, emotional, academic, and career development, with a focus on underserved students, through one or more of the following priority areas:

(1) Creating education or work-based settings that are supportive, positive, identity-safe, and inclusive with regard to race, ethnicity, culture, language, and disability status, through developing trusting relationships between students (including underserved students), educators, families, and community partners.

(2) Providing multi-tiered systems of supports that address learning barriers both in and out of the classroom, that enable healthy development and respond to students' needs and which may include evidence-based trauma-informed practices and professional development for educators on avoiding deficit-based approaches.

(3) Creating and implementing comprehensive schoolwide frameworks (such as small schools or learning communities, advisory systems, or looping educators) that support strong and consistent student and educator relationships.

Competitive Preference Priority 2—Strengthening Cross-Agency Coordination and Community Engagement to Advance Systemic Change. (up to 5 points)

The Secretary gives priority to projects that are designed to take a systemic evidence-based approach to improving outcomes for underserved students in coordinating efforts with Federal, State, or local agencies, or community-based organizations, that support students, to address community violence prevention and intervention.

Invitational Priority: For FY 2023 and any subsequent year in which we make awards from the list of unfunded applications from this competition, this is an invitational priority. Under 34 CFR 75.105(c)(1) we do not give an application that meets this invitational priority a competitive or absolute preference over other applications. If an applicant chooses to address the invitational priority, the applicant must identify so in the one-page abstract. The applicant must respond to the invitational priority in the application narrative section of its application.

This priority is:

Supporting Effective Transition Practices, Continuity of Services and Supports, and Aligned Instruction for Students from Preschool and Other Early Childhood Settings into Kindergarten and from Kindergarten into the Early Grades (K-3).

The Secretary is particularly interested in projects that include policies and procedures informed by developmentally appropriate practices that support cross-sector collaboration and family engagement across early learning and early elementary grades to support continuity of relationships and services from preschool through grade three, designed to lead to increased and improved educational opportunities for students, and include implementation of one or more of the following: (1) early learning through early elementary grades instructional alignment and educator and school leader support to promote academic recovery; (2) promotion of effective and informed attendance strategies in early learning and the early elementary grades; and (3) capacity building to promote effective family engagement for students in early learning and the early elementary grades.

Application Requirements: For FY 2023 and any subsequent year in which we make awards from the list of unfunded applications from this competition, the following requirements apply. Applications for FSCS grant funds must address the following application requirements. Applicants must respond to the requirements that correspond to the absolute priority that they are addressing. The application requirements are from section 4625(a) of the ESEA, the 2022 FSCS NFP, and the 2023 FSCS NFP. The source of each requirement is provided in the parentheses following each requirement. An applicant may choose to respond to each requirement separately or in the context of the applicant's response to the selection criteria in Section V.1. of this notice.

Absolute Priority 3—Capacity Building and Development Grants.

In order to receive funding, applicants for grants under Absolute Priority 3 Capacity Building and Development Grants must address the following application requirements.

(1) A description of the eligible entity. (4625(a)(1))

(2) A preliminary MOU among all partner entities of the eligible entity, identified at the time of application, that will assist the eligible entity to plan, develop, coordinate, provide, and evaluate pipeline services and that describes the roles and responsibilities that the partners, including the broadly representative consortium (as defined in this notice), will assume. (4625(a)(2) and 2022 FSCS NFP)

(3) A description of the capacity of the eligible entity to coordinate and provide pipeline services at two or more full-service community schools. (4625(a)(3))

(4) A comprehensive plan that includes descriptions of the following:

(A) The student, family, and school community to be served, including demographic information; (4625(a)(4)(A))

(B) A plan for conducting the needs assessment that identifies the academic, physical, nonacademic, health, mental health, and other needs of students, families, and community residents; (4625(a)(4)(B)) and 2022 FSCS NFP)

(C) A plan for developing annual measurable performance objectives and outcomes, including an increase in the number and percentage of families and students targeted for services each year of the program, in order to ensure that children are—

(i) Prepared for kindergarten;

(ii) Achieving academically; and

(iii) Safe, healthy, and supported by engaged parents. (4625(a)(4)(C) and 2022 FSCS NFP)

(D) A plan for identifying and developing pipeline services, including existing and additional pipeline services, to be coordinated and provided by the eligible entity and its partner entities, including an explanation of:

(i) Why such services have been selected;

(ii) How such services will improve student academic achievement; and

(iii) How such services will address the annual measurable performance objectives and outcomes established under paragraph (4)(C) of this requirement. (4625(a)(4)(D) and 2022 FSCS NFP)

(E) A description of the pillars of full-service community schools (as defined in this notice) that they have in place or how they will establish these pillars, or how they will implement these pillars with partners, including community-based organizations and collaborating with school leadership and staff. (2022 FSCS NFP)

(F) Plans to ensure that each full-service community school site has a full-time coordinator of pipeline services at such school, including a description of the applicable funding sources, plans for professional development for the personnel managing, coordinating, or delivering pipeline services, and plans for joint utilization and management of school facilities. (4625(a)(4)(E))

(G) Plans for an annual evaluation based upon attainment of the performance objectives and outcomes described in paragraph (4)(C) of this requirement.

An applicant must, in addition to providing the information and assurances required by section 4625(a)(4)(F) of the ESEA, commit to an independent evaluation that includes a design and implementation evaluation that will, at a minimum, (1) include annual evaluations of progress achieved with the grant; (2) be used to refine and improve activities carried out through the grant; (3) collect and report data that includes, but is not limited to, the following indicators: student chronic absenteeism rates; student discipline rates, including suspensions and expulsions; school climate information, which may come from student, parent, or teacher surveys; provision of integrated student supports and stakeholder services; expanded and enriched learning time and opportunities; family and community engagement efforts and impact; information on the number, qualifications, and retention of school staff, including the number and percentage of fully certified teachers, disaggregated by race and ethnicity, rates of teacher turnover, and teacher experience; graduation rates; changes in school spending information; collaborative leadership and practice strategies, which may include building the capacity of educators, principals, other school leaders, and other staff to lead collaborative school improvement structures, such as professional learning communities; regularly convening or engaging all initiative-level partners, such as LEA representatives, city or county officials, children's and youth's cabinets, nonprofit service providers, public housing agencies, and advocates; regularly assessing program quality and progress through individual student data, participant feedback, and aggregate outcomes to develop strategies for improvement; and organizing school personnel and community partners into working teams focused on specific issues identified in the needs and assets assessment; and (4) make results of the evaluation publicly available. (2022 FSCS NFP)

(H) Plans for sustaining the programs and services described in section 4625(a) of the ESEA after the grant period. (4625(a)(4)(G))

(5) An assurance that the eligible entity and its partner entities will participate in a national evaluation assessing the implementation of the FSCS program, which may include, but is not limited to, the following:

(A) Completing surveys of grantee organizations (which may include service provider partners), grantee schools (which may include multiple individuals within each school such as the principal and the service coordinator), and potentially a sample of teachers within grantee schools;

(B) Participating in interviews of grantee organizations, grantee schools, and/or a sample of teachers within grantee schools;

(C) Providing administrative data, such as student absenteeism rates and high school graduation rates;

(D) Cooperating with data collection at several points during the grant period, such as shortly after grant award (baseline round of data collection), during the middle of the grant period (interim round of data collection), and toward the end of the grant period (final round of data collection); and

(E) Assisting in facilitating connections between each grantee's local evaluator and the national evaluation of implementation to ensure efficiency and coordination between the evaluation efforts. (2023 FSCS NFP)

(6) An assurance that the eligible entity and its partner entities will focus services on schools eligible for a schoolwide program under section 1114(b) of the ESEA. (4625(a)(5))

Absolute Priority 4—Multi-Local Educational Agency Grants.

In order to receive funding, applicants for grants under Absolute Priority 4 Multi-Local Educational Agency Grants must address the following application requirements.

(1) A description of the eligible entity. (4625(a)(1))

(2) A preliminary MOU among all partner entities of the eligible entity, identified at the time of the application, that will assist the eligible entity to plan, develop, coordinate, provide, and evaluate pipeline services and that describes the roles and responsibilities that the partners, including the broadly representative consortium, will assume. (4625(a)(2) and 2022 FSCS NFP)

(3) A description of the capacity of the eligible entity to coordinate and provide pipeline services at two or more full-service community schools in each LEA. (4625(a)(3) and 2022 FSCS NFP)

(4) A comprehensive plan that includes descriptions of the following:

(A) The student, family, and school community to be served, including demographic information. (4625(a)(4)(A))

(B) A needs assessment that identifies the academic, physical, nonacademic, health, mental health, and other needs of students, families, and community residents. (4625(a)(4)(B))

(C) Annual measurable performance objectives and outcomes, including an increase in the number and percentage of families and students targeted for services each year of the program, in order to ensure that children are—

(i) Prepared for kindergarten; (4625(a)(4)(C)(i))

(ii) Achieving academically; (4625(a)(4)(C)(ii)) and

(iii) Safe, healthy, and supported by engaged parents. (4625(a)(4)(C)(iii))

(D) Pipeline services, including existing and additional pipeline services, to be coordinated and provided by the eligible entity and its partner entities, including an explanation of:

(i) Why such services have been selected;

(ii) How such services will improve student academic achievement; and

(iii) How such services will address the annual measurable performance objectives and outcomes established under paragraph (4)(C) of this requirement. (4625(a)(4)(D))

(E) A description of the pillars of full-service community schools that they have in place or how they will establish these pillars, or how they will implement these pillars with partners, including community-based organizations and collaborating with school leadership and staff. (2022 FSCS NFP)

(F) Plans to ensure that each full-service community school site has a full-time coordinator of pipeline services at such school, including a description of the applicable funding sources, plans for professional development for the personnel managing, coordinating, or delivering pipeline services, and plans for joint utilization and management of facilities. (4625(a)(4)(E))

(G) Plans for an annual evaluation based upon attainment of the performance objectives and outcomes described in paragraph (4)(C) of this requirement.

An applicant must, in addition to providing the information and assurances required by section 4625(a)(4)(F) of the ESEA, commit to an independent evaluation that includes a design and implementation evaluation that will, at a minimum, (1) include annual evaluations of progress achieved with the grant; (2) be used to refine and improve activities carried out through the grant; (3) collect and report data that includes, but is not limited to, the following indicators: student chronic absenteeism rates; student discipline rates, including suspensions and expulsions; school climate information, which may come from student, parent, or teacher surveys; provision of integrated student supports and stakeholder services; expanded and enriched learning time and opportunities; family and community engagement efforts and impact; information on the number, qualifications, and retention of school staff, including the number and percentage of fully certified teachers, disaggregated by race and ethnicity, rates of teacher turnover, and teacher experience; graduation rates; changes in school spending information; collaborative leadership and practice strategies, which may include building the capacity of educators, principals, other school leaders, and other staff to lead collaborative school improvement structures, such as professional learning communities; regularly convening or engaging all initiative-level partners, such as LEA representatives, city or county officials, children's and youth's cabinets, nonprofit service providers, public housing agencies, and advocates; regularly assessing program quality and progress through individual student data, participant feedback, and aggregate outcomes to develop strategies for improvement; and organizing school personnel and community partners into working teams focused on specific issues identified in the needs and assets assessment; and (4) make results of the evaluation publicly available. (2022 FSCS NFP)

(H) Plans for sustaining the programs and services described in section 4624(a) of the ESEA after the grant period. (4625(a)(4)(G))

(5) An assurance that the eligible entity and its partner entities will participate in a national evaluation assessing the implementation of the FSCS program, which may include, but is not limited to, the following:

(A) Completing surveys of grantee organizations (which may include service provider partners), grantee schools (which may include multiple individuals within each school such as the principal and the service coordinator), and potentially a sample of teachers within grantee schools;

(B) Participating in interviews of grantee organizations, grantee schools, and/or a sample of teachers within grantee schools;

(C) Providing administrative data, such as student absenteeism rates and high school graduation rates;

(D) Cooperating with data collection at several points during the grant period, such as shortly after grant award (baseline round of data collection), during the middle of the grant period (interim round of data collection), and toward the end of the grant period (final round of data collection); and

(E) Assisting in facilitating connections between each grantee's local evaluator and the national evaluation to ensure efficiency and coordination between the evaluation efforts. (2023 FSCS NFP)

(6) An assurance that the eligible entity and its partner entities will focus services on schools eligible for a schoolwide program under section 1114(b). (4625(a)(5))

Absolute Priority 5—State Scaling Grants.

In order to receive funding, applicants for grants under Absolute Priority 5 State Scaling Grants must address the following application requirements.

(1) A description of the eligible entity. (4625(a)(1))

(2) A preliminary MOU among all partner entities of the eligible entity, identified at the time of the application, that will assist the eligible entity to plan, develop, coordinate, provide, and evaluate pipeline services and that describes the roles and responsibilities that the partners, including the broadly representative consortium, will assume. (4625(a)(2) and 2022 FSCS NFP)

Applications submitted under Priority 5 FSCS State Scaling Grants must also include in the preliminary MOU a description of the State steering committee and the SEA's commitment to and partnership in the consortium, including the roles, responsibilities, and commitment of the SEA to the partnership and the scaling of full-service community schools to a percentage of State LEAs implementing schoolwide Title IA programs and where there is a commitment to sustain the program beyond 2 years after the term of the grant. (4625(a)(2) and 2022 FSCS NFP)

(3) A description of the capacity of the eligible entity to coordinate and provide pipeline services at two or more full-service community schools in each of the LEAs included in the application. (4625(a)(3) and 2022 FSCS NFP)

(4) A comprehensive plan that includes descriptions of the following:

(A) The student, family, and school community to be served, including demographic information. (4625(a)(4)(A))

(B) A needs assessment that identifies the academic, physical, nonacademic, health, mental health, and other needs of students, families, and community residents. (4625(a)(4)(B))

(C) Annual measurable performance objectives and outcomes, including an increase in the number and percentage of families and students targeted for services each year of the program, in order to ensure that children are—

(i) Prepared for kindergarten; (4625(a)(4)(C)(i))

(ii) Achieving academically; (4625(a)(4)(C)(ii)) and

(iii) Safe, healthy, and supported by engaged parents. (4625(a)(4)(C)(iii))

(D) Pipeline services, including existing and additional pipeline services to be coordinated and provided by the eligible entity and its partner entities, including an explanation of:

(i) Why such services have been selected; (4625(a)(4)(D)(ii))

(ii) How such services will improve student academic achievement; (4625(a)(4)(D)(ii)) and

(iii) How such services will address the annual measurable performance objectives and outcomes established under paragraph (4)(C) of this requirement. (4625(a)(4)(C)(iii))

(E) A description of the pillars of full-service community schools that they have in place or how they will establish these pillars, or how they will implement these pillars with partners, including community-based organizations and collaborating with school leadership and staff. (2022 FSCS NFP)

(F) Plans to ensure that each full-service community school site has a full-time coordinator of pipeline services at such school, including a description of the applicable funding sources, plans for professional development for the personnel managing, coordinating, or delivering pipeline services, and plans for joint utilization and management of facilities. (4625(a)(4)(E))

(G) Plans for an annual evaluation based upon attainment of the performance objectives and outcomes described in paragraph (4)(C) of this requirement.

An applicant must, in addition to providing the information and assurances required by section 4625(a)(4)(F) of the ESEA, commit to an independent evaluation that includes a design and implementation evaluation that will, at a minimum, (1) include annual evaluations of progress achieved with the grant; (2) be used to refine and improve activities carried out through the grant; (3) collect and report data that includes, but is not limited to, the following indicators: student chronic absenteeism rates; student discipline rates, including suspensions and expulsions; school climate information, which may come from student, parent, or teacher surveys; provision of integrated student supports and stakeholder services; expanded and enriched learning time and opportunities; family and community engagement efforts and impact; information on the number, qualifications, and retention of school staff, including the number and percentage of fully certified teachers, disaggregated by race and ethnicity, rates of teacher turnover, and teacher experience; graduation rates; changes in school spending information; collaborative leadership and practice strategies, which may include building the capacity of educators, principals, other school leaders, and other staff to lead collaborative school improvement structures, such as professional learning communities; regularly convening or engaging all initiative-level partners, such as LEA representatives, city or county officials, children's and youth's cabinets, nonprofit service providers, public housing agencies, and advocates; regularly assessing program quality and progress through individual student data, participant feedback, and aggregate outcomes to develop strategies for improvement; and organizing school personnel and community partners into working teams focused on specific issues identified in the needs and assets assessment; and (4) make results of the evaluation publicly available. (2022 FSCS NFP)

(H) Plans for sustaining the programs and services described in this subsection after the grant period. (4625(a)(4)(G))

(5) An assurance that the eligible entity and its partner entities will participate in a national evaluation assessing the implementation of the FSCS program, which may include, but is not limited to, the following:

(A) Completing surveys of grantee organizations (which may include service provider partners), grantee schools (which may include multiple individuals within each school such as the principal and the service coordinator), and potentially a sample of teachers within grantee schools;

(B) Participating in interviews of grantee organizations, grantee schools, and/or a sample of teachers within grantee schools;

(C) Providing administrative data, such as student absenteeism rates and high school graduation rates;

(D) Cooperating with data collection at several points during the grant period, such as shortly after grant award (baseline round of data collection), during the middle of the grant period (interim round of data collection), and toward the end of the grant period (final round of data collection); and

(E) Assisting in facilitating connections between each grantee's local evaluator and the national evaluation to ensure efficiency and coordination between the evaluation efforts. (2023 FSCS NFP)

(6) An assurance that the eligible entity and its partner entities will focus services on schools eligible for a schoolwide program under section 1114(b). (4625(a)(5))

Program Requirements: FSCS grantees must meet the following program requirements. These requirements are from sections 4623 and 4625 of the ESEA, the 2022 FSCS NFP, and the 2023 FSCS NFP. The source of each requirement is provided in the parentheses following each requirement. For FY 2023 and any subsequent year in which we make awards from the list of unfunded applications from this competition, the following requirements apply.

(1) Matching Funds. Each grantee shall provide matching funds from non-Federal sources, which may be provided in part with in-kind contributions. The BIE may meet the matching requirement using funds from other Federal sources. (ESEA section 4623(d)(2))

(2) Use of Funds. Each grantee shall use the grant funds for the following grant activities:

(A) Each grantee may use not more than 10 percent of the total amount of grant funds for planning purposes during the first year of the grant. (ESEA section 4625(c))

(B) Each grantee shall use the grant funds for the following grant activities:

(i) Coordinate not less than three existing pipeline services, as of the date of the grant award, and provide not less than two additional pipeline services at two or more public elementary schools or secondary schools; (ESEA section 4625(e)(1))

(ii) To the extent practicable, integrate multiple pipeline services, at two or more public elementary schools or secondary schools. Under Absolute Priorities 4 and 5, to the extent practicable, integrate multiple pipeline services at two or more public elementary schools or secondary schools in each LEA; (ESEA section 4625(e)(2) and 2022 FSCS NFP) and

(iii) If applicable, coordinate and integrate services provided by community-based organizations and government agencies with services provided by specialized instructional support personnel. (ESEA section 4625(e)(3))

(3) Evaluation. Each grantee shall include an independent evaluation to do the following:

(A) Conduct an annual evaluation of the progress achieved with the grant toward the purpose described in section 4621(2) of the ESEA; (ESEA section 4625(g)(1) and 2022 FSCS NFP)

(B) Use the evaluation to refine and improve activities carried out through the grant and annual measurable performance objectives and outcomes under section 4625(a)(4)(C); (4625(g)(2) and 2022 FSCS NFP) and

(C) Make the results of the evaluation publicly available, including by providing public notice of such availability. (ESEA section 4625(g)(3) and 2022 FSCS NFP)

(4) Participate in a National Evaluation Assessing the Implementation of the FSCS Program.

Each grantee must participate in a national evaluation assessing the implementation of the FSCS program, which may include, but is not limited to, the following:

(A) Completing surveys of grantee organizations (which may include service provider partners), grantee schools (which may include multiple individuals within each school such as the principal and the service coordinator), and potentially a sample of teachers within grantee schools;

(B) Participating in interviews of grantee organizations, grantee schools, and/or a sample of teachers within grantee schools;

(C) Providing administrative data, such as student absenteeism rates and high school graduation rates;

(D) Cooperating with data collection at several points during the grant period, such as shortly after grant award (baseline round of data collection), during the middle of the grant period (interim round of data collection), and toward the end of the grant period (final round of data collection); and

(E) Assisting in facilitating connections between each grantee's local evaluator and the national evaluation of implementation to ensure efficiency and coordination between the evaluation efforts. (2023 FSCS NFP)

(5) Final MOU. At the end of the first year of the grant, each grantee must submit a final MOU among all partner entities in the eligible entity that will assist the eligible entity to plan, develop, coordinate, provide, and evaluate pipeline services and that describes the roles and responsibilities that the partners, including the broadly representative consortium, will assume. (4625(a)(2) and 2022 FSCS NFP)

Definitions: The definitions of “Community-based organization,” “Eligible entity,” “Evidence-based,” “Full-service community school,” “Local educational agency,” “Pipeline services,” and “State educational agency” are from sections 4622 and 8101 of the ESEA. The definitions of “Baseline,” “Demonstrates a rationale,” “Experimental study,” “Logic model,” “Moderate evidence,” “Nonprofit,” “Performance measure,” “Performance target,” “Project,” “Project component,” “Promising evidence,” “Quasi-experimental design study,” “Relevant outcome,” “Strong evidence,” and “What Works Clearinghouse Handbook” are from 34 CFR 77.1. The definition of “School eligible for a schoolwide program” is from 34 CFR 200.25(b). The definitions of “Broadly representative consortium,” Full-service community school coordinator,” “History of effectiveness,” and “Pillars of full-service community schools” are from the 2022 FSCS NFP. The definitions of “Children or students with disabilities,” “Disconnected youth,” “Early learning,” “Educator,” “English learner,” “Military- or veteran-connected student,” and “Underserved student” are from the Supplemental Priorities.

Baseline means the starting point from which performance is measured and targets are set.

Broadly representative consortium means stakeholders representing broad groups of people working together for the best interest of children; such stakeholders may include, but are not limited to, families and family leadership, schools, nonprofits, government, philanthropy, and the business community.

Children or students with disabilities means children with disabilities as defined in section 602(3) of the Individuals with Disabilities Education Act (IDEA) (20 U.S.C. 1401(3)) and 34 CFR 300.8, or students with disabilities as defined in the Rehabilitation Act of 1973 (29 U.S.C. 705(37), 705(20)(B)).

Community-based organization means a public or private nonprofit organization of demonstrated effectiveness that—

(a) Is representative of a community or significant segments of a community; and

(b) Provides educational or related services to individuals in the community.

Demonstrates a rationale means a key project component included in the project's logic model is informed by research or evaluation findings that suggest the project component is likely to improve relevant outcomes.

Disconnected youth means an individual, between the ages 14 and 24, who may be from a low-income background, experiences homelessness, is in foster care, is involved in the justice system, or is not working or not enrolled in (or at risk of dropping out of) an educational institution.

Early learning means any (a) State-licensed or State-regulated program or provider, regardless of setting or funding source, that provides early care and education for children from birth to kindergarten entry, including, but not limited to, any program operated by a child care center or in a family child care home; (b) program funded by the Federal Government or State or local educational agencies (including any IDEA-funded program); (c) Early Head Start and Head Start program; (d) non-relative child care provider who is not otherwise regulated by the State and who regularly cares for two or more unrelated children for a fee in a provider setting; and (e) other program that may deliver early learning and development services in a child's home, such as the Maternal, Infant, and Early Childhood Home Visiting Program; Early Head Start; and Part C of IDEA.

Educator means an individual who is an early learning educator, teacher, principal, or other school leader, specialized instructional support personnel (e.g., school psychologist, counselor, school social worker, early intervention service personnel), paraprofessional, or faculty.

Eligible entity means a consortium of one or more LEAs, or the Bureau of Indian Education, and one or more community-based organizations, nonprofit organizations, or other public or private entities.

English learner means an individual who is an English learner as defined in section 8101(20) of the Elementary and Secondary Education Act of 1965, as amended, or an individual who is an English language learner as defined in section 203(7) of the Workforce Innovation and Opportunity Act.

Evidence-based, when used with respect to a State, local educational agency, or school activity, means an activity, strategy, or intervention that—

(i) Demonstrates a statistically significant effect on improving student outcomes or other relevant outcomes based on—

(I) Strong evidence from at least one well-designed and well-implemented experimental study;

(II) Moderate evidence from at least one well-designed and well-implemented quasi-experimental study; or

(III) Promising evidence from at least one well-designed and well-implemented correlational study with statistical controls for selection bias; or

(ii)(I) Demonstrates a rationale based on high-quality research findings or positive evaluation that such activity, strategy, or intervention is likely to improve student outcomes or other relevant outcomes; and

(II) Includes ongoing efforts to examine the effects of such activity, strategy, or intervention.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks (as defined in this notice):

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Full-service community school means a public elementary school or secondary school that—

(a) Participates in a community-based effort to coordinate and integrate educational, developmental, family, health, and other comprehensive services through community-based organizations and public and private partnerships; and

(b) Provides access to such services in school to students, families, and the community, such as access during the school year (including before- and after-school hours and weekends), as well as during the summer.

Full-service community school coordinator means an individual in a full-time position at each community school who serves to plan, integrate, coordinate, and facilitate the delivery of pipeline services at each school. The coordinator may also lead the school and community assessment of needs and assets and identify ways to sustain the services and partnerships beyond the duration of the grant.

History of effectiveness means an eligible entity demonstrating the ability to successfully implement programs and policies. Such programs and policies must include, but shall not be limited to, successfully implementing with other organizations grants, policies, and programs for students from high-need schools (as defined in section 2221 of the ESEA).

Local educational agency (LEA):

(a) In General. The term “local educational agency” means a public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any State educational agency other than the Bureau of Indian Education.

(d) Educational Service Agencies. The term includes educational service agencies and consortia of those agencies.

(e) State Educational Agency. The term includes the SEA in a State in which the SEA is the sole educational agency for all public schools.

Logic model (also referred to as a theory of action) means a framework that identifies key project components of the proposed project (i.e., the active “ingredients” that are hypothesized to be critical to achieving the relevant outcomes) and describes the theoretical and operational relationships among the key project components and relevant outcomes.

Military- or veteran-connected student means one or more of the following:

(a) A child participating in an early learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an early learning program, a student enrolled in preschool through grade 12, or a student enrolled in career and technical education or postsecondary education who has a parent or guardian who is a veteran of the uniformed services (as defined by 37 U.S.C. 101).

Moderate evidence means that there is evidence of effectiveness of a key project component in improving a relevant outcome for a sample that overlaps with the populations or settings proposed to receive that component, based on a relevant finding from one of the following:

(i) A practice guide prepared by the WWC using version 2.1, 3.0, 4.0, or 4.1 of the WWC Handbooks reporting a “strong evidence base” or “moderate evidence base” for the corresponding practice guide recommendation;

(ii) An intervention report prepared by the WWC using version 2.1, 3.0, 4.0, or 4.1 of the WWC Handbooks reporting a “positive effect” or “potentially positive effect” on a relevant outcome based on a “medium to large” extent of evidence, with no reporting of a “negative effect” or “potentially negative effect” on a relevant outcome; or

(iii) A single experimental study or quasi-experimental design study reviewed and reported by the WWC using version 2.1, 3.0, 4.0, or 4.1 of the WWC Handbooks, or otherwise assessed by the Department using version 4.1 of the WWC Handbooks, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy the requirement in this paragraph (iii)(D).

Nonprofit, as applied to an agency, organization, or institution, means that it is owned and operated by one or more corporations or associations whose net earnings do not benefit, and cannot lawfully benefit, any private shareholder or entity.

Performance measure means any quantitative indicator, statistic, or metric used to gauge program or project performance.

Performance target means a level of performance that an applicant would seek to meet during the course of a project or as a result of a project.

Pillars of Full-Service Community Schools means all of the following:

(A) Integrated student supports at a community school that provide in- and out-of-school support for students, address well-being, and address out-of-school barriers to learning through partnerships with social and health service agencies, including mental and behavioral health agencies and providers, and coordinated by a community school coordinator, which may include—

(i) Medical, dental, vision care, and mental and behavioral health services, including mental health literacy for students and staff, and trauma-informed services to prevent, intervene, and mitigate adverse childhood experiences (ACEs); and

(ii) Individuals to assist with housing, transportation, nutrition, citizenship preparation, or criminal justice issues and other services.

(B) Expanded and enriched learning time and opportunities, through evidence-based strategies, including before-school, after-school, during-school, weekend, and summer programs that provide additional academic instruction, individualized academic support, enrichment activities, or learning opportunities, for students at a community school that—

(i) May emphasize real-world project-based learning where students can apply their learning to contexts that are relevant and engaging; and

(ii) May include art, music, drama, creative writing, hands-on experience with engineering or science (including computer science), career and technical education, tutoring that is aligned with classroom success and homework help, and recreational programs that enhance and are consistent with the school's curriculum.

(C) Active family and community engagement that—

(i) Brings parents and families of students at the community school and community members and leaders into the school as partners in students' education, including meaningfully involving parents and families in the community school's decision-making processes;

(ii) Makes the community school a hub for services, activities, and programs, for students, families, and members of the neighborhood that the community school serves;

(iii) Provides adults with desired educational and employment opportunities and other supportive services; and

(iv) Provides centralized supports for families and communities in community schools, which may include English as a second language classes, citizenship preparation, computer skills, art, housing assistance, child abuse and neglect prevention supports, health and mental health, literacy programs, digital literacy training, or other programs that bring community members into a school building for meetings, events, or programming.

(D) Collaborative leadership and practices that build a culture of professional learning, collective trust, and shared responsibility for each community school using strategies that—

(i) At a minimum, include a school-based leadership team with representation of student, parent and family leaders and a community voice; a community school coordinator; and a community-wide leadership team; and

(ii) May include other leadership or governance teams, community school steering committees, or other community coalitions, educator learning communities, and other staff to manage the multiple, complex joint work of school and community organizations.

Pipeline services means a continuum of coordinated supports, services, and opportunities for children from birth through entry into and success in postsecondary education, and career attainment. Such services shall include, at a minimum, strategies to address through services or programs (including integrated student supports) the following:

(a) High-quality early childhood education programs.

(b) High-quality school and out-of-school-time programs and strategies.

(c) Support for a child's transition to elementary school, from elementary school to middle school, from middle school to high school, and from high school into and through postsecondary education and into the workforce, including any comprehensive readiness assessment determined necessary.

(d) Family and community engagement and supports, which may include engaging or supporting families at school or at home.

(e) Activities that support postsecondary and workforce readiness, which may include job training, internship opportunities, and career counseling.

(f) Community-based support for students who have attended the schools in the area served by the pipeline, or students who are members of the community, facilitating their continued connection to the community and success in postsecondary education and the workforce.

(g) Social, health, nutrition, and mental health services and supports.

(h) Juvenile crime prevention and rehabilitation programs.

Project means the activity described in an application.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

School eligible for a schoolwide program means any school eligible under 34 CFR 200.25(b) to operate a schoolwide program. Specifically,

(1) A school may operate a schoolwide program if—

(i) The school's LEA determines that the school serves an eligible attendance area or is a participating school under section 1113 of the ESEA; and

(ii) Except as provided under paragraph (b)(1)(iii) of this section, for the initial year of the schoolwide program—

(A) The school serves a school attendance area in which not less than 40 percent of the children are from low-income families; or

(B) Not less than 40 percent of the children enrolled in the school are from low-income families.

(iii) A school that does not meet the poverty percentage in paragraph (b)(1)(ii) of this section may operate a schoolwide program if the school receives a waiver from the State to do so, after taking into account how a schoolwide program will best serve the needs of the students in the school in improving academic achievement and other factors.

(2) In determining the percentage of children from low-income families under paragraph (b)(1) of this section, the LEA may use a measure of poverty that is different from the measure or measures of poverty used by the LEA to identify and rank school attendance areas for eligibility and participation under this subpart.

State educational agency (SEA) means the agency primarily responsible for the State supervision of public elementary schools and secondary schools.

Strong evidence means that there is evidence of the effectiveness of a key project component in improving a relevant outcome for a sample that overlaps with the populations and settings proposed to receive that component, based on a relevant finding from one of the following:

(i) A practice guide prepared by the WWC using version 2.1, 3.0, 4.0, or 4.1 of the WWC Handbooks reporting a “strong evidence base” for the corresponding practice guide recommendation;

(ii) An intervention report prepared by the WWC using version 2.1, 3.0, 4.0, or 4.1 of the WWC Handbooks reporting a “positive effect” on a relevant outcome based on a “medium to large” extent of evidence, with no reporting of a “negative effect” or “potentially negative effect” on a relevant outcome; or

(iii) A single experimental study reviewed and reported by the WWC using version 2.1, 3.0, 4.0, or 4.1 of the WWC Handbooks, or otherwise assessed by the Department using version 4.1 of the WWC Handbooks, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy the requirement in this paragraph (iii)(D).

Underserved student means a student (which may include children in early learning environments, students in K-12 programs, students in postsecondary education or career and technical education, and adult learners, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student who is the first in their family to attend postsecondary education.

(r) A student who is enrolled in or is seeking to enroll in postsecondary education who is eligible for a Pell Grant.

(s) A student performing significantly below grade level.

(t) A military- or veteran-connected student.

What Works Clearinghouse Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbook (Version 4.1), as well as the more recent What Works Clearinghouse Handbooks released in August 2022 (Version 5.0), are available at https://ies.ed.gov/ncee/wwc/Handbooks.

Program Authority: Sections 4621-4625 of the ESEA, 20 U.S.C. 7271-7273, 7275.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) 34 CFR 200.25. (e) The 2022 FSCS NFP. (f) The 2023 FSCS NFP. (g) The Supplemental Priorities.

Note: The regulations in 34 CFR part 79 apply to all applicants except federally recognized Indian Tribes.

Note: The regulations in 34 CFR part 86 apply to institutions of higher education only.

II. Award Information

Type of Award: Discretionary grants.

Estimated Available Funds: $74,000,000.

Contingent upon the availability of funds and the quality of applications, we may make additional awards later in FY 2023 or in subsequent years from the list of unfunded applications from this competition.

Estimated Range of Awards: Under Absolute Priority 3, $275,000 to $500,000 for each 12-month budget period; $1,375,000 to $2,500,000 for the entire project period. Under Absolute Priority 4, $1,000,000 to $3,000,000 for each 12-month budget period; $5,000,000 to $15,000,000 for the entire project period. Under Absolute Priority 5, $5,000,000 to $10,000,000 for each 12-month budget period; $25,000,000 to $50,000,000 for the entire project period.

Estimated Average Size of Awards: Under Absolute Priority 3, $450,000 for each 12-month period. Under Absolute Priority 4, $2 million for each 12-month period. Under Absolute Priority 5, $7.5 million for each 12-month period.

Maximum Award: Under Absolute Priority 3, we will not make an award exceeding $2.5 million for the entire project period. Under Absolute Priority 4, we will not make an award exceeding $15 million for the entire project period. Under Absolute Priority 5, we will not make an award exceeding $50 million for the entire project period.

Minimum Award: The Secretary is prohibited by section 4625(d) of the ESEA from making a grant under the FSCS program in an amount that is less than $75,000 for each year of the grant. Therefore, we will reject any application that proposes an amount that is less than $75,000 for any budget period.

Estimated Number of Awards: 45.

Note: The Department is not bound by any estimates in this notice.

Project Period: Up to 60 months.

III. Eligibility Information

1. Eligible Applicants: A consortium of—

(a)(i) One or more LEAs; or

(ii) The BIE; and

(b) One or more community-based organizations, nonprofit organizations, or other public or private entities.

A consortium must comply with the provisions governing group applications in 34 CFR 75.127 through 75.129.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: To be eligible for an award, an applicant shall provide matching funds through non-Federal contributions, either in cash or in-kind donations. The applicant must propose the amount of cash or in-kind resources to be contributed for each year of the grant.

The BIE may meet the matching requirement using funds from other Federal sources.

b. Supplement not Supplant: This competition involves supplement-not-supplant funding requirements. Grantees must use FSCS grant funds to supplement, and not supplant, any other Federal, State, and local funds that would otherwise have been available to carry out activities authorized under section 4625 of the ESEA.

c. Indirect Cost Rate Information: This program uses a restricted indirect cost rate. For more information regarding indirect costs, or to obtain a negotiated indirect cost rate, please see http://www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

Note: Nothing in section 4625 of the ESEA shall be construed to alter or otherwise affect the rights, remedies, and procedures afforded school or LEA employees under Federal, State, or local laws (including applicable regulations or court orders) under the terms of collective bargaining agreements, memoranda of understanding, or other agreements between such employees and their employers.

IV. Application and Submission Information

1. Application Submission Instructions: Applicants are required to follow the Common Instructions for Applicants to Department of Education Discretionary Grant Programs, published in the Federal Register on December 7, 2022 (84 FR 75045), and available at https://www.federalregister.gov/documents/2022/12/07/2022-26554/common-instructions-for-applicants-to-department-of-education-discretionary-grant-programs, which contain requirements and information on how to submit an application. Please note that these Common Instructions supersede the version published on December 27, 2021.

2. Submission of Proprietary Information: Given the types of projects that may be proposed in applications for the FSCS program, your application may include business information that you consider proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 100 pages and (2) use the following standards:

• A “page” is 8.5″ × 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the required preliminary MOU; the assurances and certifications; or the one-page abstract, the resumes, the bibliography, or the letters of support. However, the recommended page limit does apply to all of the application narrative.

6. Notice of Intent to Apply: The Department will be able to review grant applications more efficiently if we know the approximate number of applications that intend to apply. Therefore, we strongly encourage each potential applicant to notify us of their intent to submit an application. Applicants may access this form using the link available on the Notice of Intent to Apply section of the competition website: https://oese.ed.gov/offices/office-of-discretionary-grants-support-services/school-choice-improvement-programs/full-service-community-schools-program-fscs/fy-2023-fscs-grant-competition/. Applicants that do not submit a notice of intent to apply may still apply for funding; applicants that do submit a notice of intent to apply are not bound to apply or bound by the information provided.

V. Application Review Information

1. Selection Criteria: The selection criteria for applicants submitting applications under Absolute Priority 3—Capacity Building and Development Grants are listed in paragraph (a) of this section. The selection criteria for applicants submitting applications under Absolute Priority 4—Multi-Local Educational Agency Grants are listed in paragraph (b) of this section. The selection criteria for applicants submitting applications under Absolute Priority 5—State Scaling Grants are listed under paragraph (c) of this section. The selection criteria for this competition are from 34 CFR 75.210 and the 2022 FSCS NFP. The points assigned to each criterion are indicated in the parentheses next to the criterion. An applicant may earn up to a total of 100 points based on the selection criteria for the application.

Points awarded under these selection criteria are in addition to any points an applicant earns under the competitive preference priorities in this notice. The maximum score that an application may receive under the competitive preference priorities and the selection criteria is 110 points.

In evaluating a FSCS application, the Secretary considers the following criteria:

(a) Selection Criteria for Absolute Priority 3—Capacity Building and Development Grants.

(1) Need for Project (up to 10 points).

The Secretary considers the need for the proposed project. In determining the need for the proposed project, the Secretary considers the extent to which the proposed project will provide support, resources, and services; close gaps in educational opportunity; or otherwise address the needs of the targeted population, including addressing the needs of underserved populations most impacted by the issue, challenge, or opportunity to be addressed by the proposed project. (2022 FSCS NFP) (10 points)

(2) Quality of the Project Design (up to 25 points).

The Secretary considers the quality of the design of the proposed project. In determining the quality of the design of the proposed project, the Secretary considers the following factors:

(A) The extent to which the design of the proposed project reflects relevant and evidence-based findings from existing literature and includes a high-quality plan for project implementation integrating the four pillars of full-service community schools and the use of appropriate evaluation methods to ensure successful achievement of project objectives. (2022 FSCS NFP) (15 points)

(B) The extent to which the proposed project demonstrates a rationale (as defined in this notice). (34 CFR 75.210) (10 points)

(3) Quality of the Project Services (up to 15 points).

The Secretary considers the quality of the services to be provided by the proposed project. In determining the quality of project services, the Secretary considers the following factors:

(A) The extent to which the applicant will ensure that a diversity of perspectives are brought to bear in the design and operation of the proposed project, including those of students, youth, families, educators and staff, beneficiaries of services, school leadership, and community leadership. (2022 FSCS NFP) (10 points)

(B) The extent to which the services provided reflect up-to-date knowledge from research and effective practice. (34 CFR 75.210) (5 points)

(4) Adequacy of Resources (up to 10 points).

The Secretary considers the adequacy of resources for the proposed project. In determining the adequacy of resources for the proposed project, the Secretary considers the following factors:

(A) The extent to which the grantee has plans for a full-time coordinator at each school, including a plan to sustain the position beyond the grant period and a description of how this position will serve to plan, integrate, coordinate, and facilitate programs and services at each school. (2022 FSCS NFP) (5 points)

(B) Potential for continued support for the project after Federal funding ends, including, as appropriate, the demonstrated commitment of appropriate entities to such support. (34 CFR 75.210) (5 points)

(5) Quality of the Management Plan (up to 25 points).

The Secretary considers the quality of the management plan for the proposed project. In determining the quality of the management plan for the proposed project, the Secretary considers the following factors:

(A) The extent to which the grantee has, or demonstrates a strong plan to have, a broadly representative consortium that reflects the needs of the community and its stakeholders, and a description of the roles and responsibilities of the broadly representative consortium outlined in the required preliminary MOU. (2022 FSCS NFP) (5 points)

(B) The extent to which the applicant demonstrates a history of effectiveness in working with a diverse range of stakeholders, including students and families. (2022 FSCS NFP) (5 points)

(C) The adequacy of the management plan to achieve the objectives of the proposed project on time and within budget, including clearly defined responsibilities, timelines, and milestones for accomplishing project tasks. (34 CFR 75.210) (15 points)

(6) Quality of the Project Evaluation (up to 15 points).

The Secretary considers the quality of the evaluation to be conducted of the proposed project. In determining the quality of the evaluation, the Secretary considers the following factors—

(A) The extent to which the methods of evaluation are thorough, feasible, and appropriate to the goals, objectives, and outcomes of the proposed project. (34 CFR 75.210) (5 points)

(B) The extent to which the methods of evaluation will provide performance feedback and permit periodic assessment of progress toward achieving intended outcomes. (34 CFR 75.210) (5 points)

(C) The extent to which the methods of evaluation will provide valid and reliable performance data on relevant outcomes. (34 CFR 75.210) (5 points)

(b) Selection Criteria for Absolute Priority 4—Multi-Local Educational Agency Grants.

(1) Need for Project (up to 10 points).

The Secretary considers the need for the proposed project. In determining the need for the proposed project, the Secretary considers the extent to which the proposed project will provide support, resources, and services; close gaps in educational opportunity; or otherwise address the needs of the targeted population, including addressing the needs of underserved populations most impacted by the issue, challenge, or opportunity to be addressed by the proposed project. (2022 FSCS NFP) (10 points)

(2) Quality of the Project Design (up to 25 points).

The Secretary considers the quality of the design of the proposed project. In determining the quality of the design of the proposed project, the Secretary considers the following factors—

(A) The extent to which the design of the proposed project reflects relevant and evidence-based findings from existing literature and includes a high-quality plan for project implementation integrating the four pillars of full-service community schools and the use of appropriate evaluation methods to ensure successful achievement of project objectives. (2022 FSCS NFP) (15 points)

(B) The extent to which proposed project demonstrates a rationale (as defined in 34 CFR 77.1(c)). (34 CFR 75.210) (10 points)

(3) Quality of the Project Services (up to 15 points).

The Secretary considers the quality of the services to be provided by the proposed project. In determining the quality of project services, the Secretary considers the following factors:

(A) The extent to which the applicant will ensure that a diversity of perspectives is brought to bear in the design and operation of the proposed project, including those of students, youth, families, educators and staff, beneficiaries of services, school leadership, and community leadership. (2022 FSCS NFP) (5 points)

(B) The extent to which the services provided reflect up-to-date knowledge from research and effective practice. (34 CFR 75.210) (5 points)

(C) The extent to which the services to be provided are focused on those with greatest need. (34 CFR 75.210) (5 points).

(4) Adequacy of Resources (up to 10 points).

The Secretary considers the adequacy of resources for the proposed project. In determining the adequacy of resources for the proposed project, the Secretary considers the following factors:

(A) The extent to which the grantee has plans for a full-time coordinator at each school, including a plan to sustain the position beyond the grant period and a description of how this position will serve to plan, integrate, coordinate, and facilitate programs and services at each school. (2022 FSCS NFP) (5 points)

(B) Potential for continued support for project after Federal funding ends, including, as appropriate, the demonstrated commitment of appropriate entities to such support. (34 CFR 75.210) (5 points)

(5) Quality of the Management Plan (up to 25 points).

The Secretary considers the quality of the management plan for the proposed project. In determining the quality of the management plan for the proposed project, the Secretary considers the following factors:

(A) The extent to which the grantee has, or demonstrates a strong plan to have, a broadly representative consortium that reflects the needs of the community and its stakeholders, and a description of the roles and responsibilities of the broadly representative consortium outlined in the required preliminary MOU. (2022 FSCS NFP) (5 points)

(B) The extent to which the applicant demonstrates a history of effectiveness in working with a diverse range of stakeholders, including students and families. (2022 FSCS NFP) (5 points)

(C) The adequacy of the management plan to achieve the objectives of the proposed project on time and within budget, including clearly defined responsibilities, timelines, and milestones for accomplishing project tasks. (34 CFR 75.210) (15 points)

(6) Quality of the Project Evaluation (up to 15 points).

The Secretary considers the quality of the evaluation to be conducted of the proposed project. In determining the quality of the evaluation, the Secretary considers the following factors—

(A) The extent to which the methods of evaluation are thorough, feasible, and appropriate to the goals, objectives, and outcomes of the proposed project. (34 CFR 75.210) (5 points)

(B) The extent to which the methods of evaluation will provide performance feedback and permit periodic assessment of progress toward achieving intended outcomes. (34 CFR 75.210) (5 points)

(C) The extent to which the methods of evaluation will provide valid and reliable performance data on relevant outcomes. (34 CFR 75.210) (5 points)

(c) Selection Criteria for Absolute Priority 5—State Scaling Grants.

(1) Need for Project (up to 5 points).

The Secretary considers the need for the proposed project. In determining the need for the proposed project, the Secretary considers the extent to which the proposed project will provide support, resources, and services; close gaps in educational opportunity; or otherwise address the needs of the targeted population, including addressing the needs of underserved populations most impacted by the issue, challenge, or opportunity to be addressed by the proposed project. (2022 FSCS NFP) (5 points)

(2) Quality of the Project Design (up to 25 points).

The Secretary considers the quality of the design of the proposed project. In determining the quality of the design of the proposed project, the Secretary considers the following factors:

(A) The extent to which the design of the proposed project reflects relevant and evidence-based findings from existing literature and includes a high-quality plan for project implementation integrating the four pillars of full-service community schools and the use of appropriate evaluation methods to ensure successful achievement of project objectives. (2022 FSCS NFP) (15 points)

(B) The extent to which proposed project demonstrates a rationale (as defined in this notice). (34 CFR 75.210) (10 points)

(3) Quality of the Project Services (up to 15 points).

The Secretary considers the quality of the services to be provided by the proposed project. In determining the quality of project services, the Secretary considers the following factors:

(A) The extent to which the applicant will ensure that a diversity of perspectives is brought to bear in the design and operation of the proposed project, including those of students, youth, families, educators and staff, beneficiaries of services, school leadership, and community leadership. (2022 FSCS NFP) (5 points)

(B) The extent to which the services provided reflect up-to-date knowledge from research and effective practice. (34 CFR 75.210) (5 points)

(C) The extent to which the services to be provided are focused on those with greatest need. (34 CFR 75.210) (5 points)

(4) Adequacy of Resources (up to 10 points).

The Secretary considers the adequacy of resources for the proposed project. In determining the adequacy of resources for the proposed project, the Secretary considers the following factors:

(A) The extent to which the grantee has plans for a full-time coordinator at each school, including a plan to sustain the position beyond the grant period and a description of how this position will serve to plan, integrate, coordinate, and facilitate programs and services at each school. (2022 FSCS NFP) (5 points)

(B) Potential for continued support for project after Federal funding ends, including, as appropriate, the demonstrated commitment of appropriate entities to such support. (34 CFR 75.210) (5 points)

(5) Quality of the Management Plan (up to 20 points).

The Secretary considers the quality of the management plan for the proposed project. In determining the quality of the management plan for the proposed project, the Secretary considers the following factors—

(A) The extent to which the grantee has, or demonstrates a strong plan to have, a broadly representative consortium that reflects the needs of the community and its stakeholders, and a description of the roles and responsibilities of the broadly representative consortium outlined in the required preliminary MOU. (2022 FSCS NFP) (5 points)

(B) The extent to which the applicant demonstrates a history of effectiveness in working with a diverse range of stakeholders, including students and families. (2022 FSCS NFP) (5 points)

(C) The adequacy of the management plan to achieve the objectives of the proposed project on time and within budget, including clearly defined responsibilities, timelines, and milestones for accomplishing project tasks. (34 CFR 75.210) (10 points)

(6) Quality of the Project Evaluation (up to 15 points).

The Secretary considers the quality of the evaluation to be conducted of the proposed project. In determining the quality of the evaluation, the Secretary considers the following factors—

(A) The extent to which the methods of evaluation are thorough, feasible, and appropriate to the goals, objectives, and outcomes of the proposed project. (34 CFR 75.210) (5 points)

(B) The extent to which the methods of evaluation will provide performance feedback and permit periodic assessment of progress toward achieving intended outcomes. (34 CFR 75.210) (5 points)

(C) The extent to which the methods of evaluation will provide valid and reliable performance data on relevant outcomes. (34 CFR 75.210) (5 points)

(7) Strategy to Scale (up to 10 points).

The Secretary considers the applicant's strategy to scale the proposed project. In determining the applicant's capacity to scale the proposed project, the Secretary considers the extent to which the applicant demonstrates its commitment and strategy to scale full-service community schools at the statewide level. In determining the applicant's capacity to scale the proposed project, the Secretary considers the number and percentage of LEAs, and the number and percentage of schools within each LEA, the applicant, the SEA, and other partners propose to serve, the applicant's capacity (e.g., in terms of qualified personnel, financial resources, or management capacity) to further develop, implement, bring to scale, and sustain additional full-service community schools in multiple LEAs, and the applicant's capacity to work with others, including the broadly representative consortium and the State steering committee, to ensure that the proposed process, products, strategies, or practices can be further developed and brought to scale, based on the regular findings of the proposed project and its independent evaluation. (2022 FSCS NFP) (10 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to https://www2.ed.gov/fund/grant/apply/appforms/appforms.html.

5. Performance Measures: Section 4625(a)(4)(C) of the ESEA provides the basis for one performance measure for the FSCS program: the percentage and number of individuals targeted for services and who receive services during each year of the project period. The 2022 FSCS NFP established an additional set of indicators: student chronic absenteeism rates; student discipline rates, including suspensions and expulsions; school climate information, which may come from student, parent, or teacher surveys; provision of integrated student supports and stakeholder services; expanded and enriched learning time and opportunities; family and community engagement efforts and impact; information on the number, qualifications, and retention of school staff, including the number and percentage of fully certified teachers, disaggregated by race and ethnicity, and rates of teacher turnover; graduation rates; changes in school spending information; collaborative leadership and practice strategies, which may include building the capacity of educators, principals, other school leaders, and other staff to lead collaborative school improvement structures, such as professional learning communities; regularly convening or engaging all initiative-level partners, such as LEA representatives, city or county officials, children's cabinets, nonprofit service providers, public housing agencies, and advocates; regularly assessing program quality and progress through individual student data, participant feedback, and aggregate outcomes to develop strategies for improvement; and organizing school personnel and community partners into working teams focused on specific issues identified in the needs and assets assessment.

6. Continuation Awards: In making a continuation award under 34 CFR 75.253, the Secretary considers, among other things, whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

James F. Lane,
Principal Deputy Assistant Secretary, Delegated the Authority to Perform the Functions and Duties of the Assistant Secretary, Office of Elementary and Secondary Education.

[FR Doc. 2023-12145 Filed 6-6-23; 8:45 am]

BILLING CODE 4000-01-P